DEPARTMENT OF THE INTERIOR

Bureau of Land Management

[LLMT924000-L54200000.FR0000.E0480000; MTM 99415]

Notice of Realty Action; Application for Recordable Disclaimer of Interest; Montana

AGENCY: Bureau of Land Management, Interior.

ACTION: Notice.

SUMMARY: Gerald T. Archambeault, Attorney-at-Law, has filed an application with the Bureau of Land Management (BLM) for a Recordable Disclaimer of Interest on behalf of George and Roberta Budak pursuant to provisions in the Federal Land Policy and Management Act of 1976. A disclaimer, if issued, will confirm that the United States has no valid interest in the subject land.

DATES: Comments or objections should be received by January 22, 2010.

ADDRESSES: Comments or objections should be sent to Cindy Staszak, Chief, Branch of Land Resources, BLM Montana State Office, 5001 Southgate Drive, Billings, Montana 59101-4669.

FOR FURTHER INFORMATION CONTACT: Sandra Ward, BLM Montana State Office, 5001 Southgate Drive, Billings, Montana 59101-4669, 406-896-5052.

SUPPLEMENTARY INFORMATION: On August 6, 2009, Gerald T. Archambeault, Attorney-at-Law, on behalf of George and Roberta Budak, filed an application for a Recordable Disclaimer of Interest pursuant to 43 U.S.C. 1745 for the land surveyed under Certificate of Filing 367416 Survey, File 5811, Plat 288A, records of Roosevelt County, Montana, described as follows:

Principal Meridian, Montana

T. 27 N., R. 49 E.,

Sec. 2, Tract Nos. 51 and 52;

Sec. 11, Tract Nos. 48, 49, and 50, and a portion of Tract No. 47;

Sec. 12, Portion of Tract No. 47;

Sec. 13, Portion of Tract No. 46;

Sec. 14, Portion of Tract No. 46.

The area described contains 146.65 acres, more or less, in Roosevelt County.

The above-described land is a portion of an abandoned channel of the Missouri River created by an avulsive action. The Missouri River has been determined to be navigable. Therefore, under the Equal Footing Doctrine, it is the BLM's determination that the abandoned channel lying east of the surveyed medial line as shown on Certificate of Filing 367416 Survey, File 5811, Plat 288A, records of Roosevelt County, Montana, falls under the jurisdiction of the State of Montana and that the United States does not own any interest in the land. A Recordable Disclaimer of Interest may be issued if no objections are received.

On or before January 22, 2010, all persons who wish to submit comments, suggestions, or objections in connection with the proposed legislative withdrawal may present their views in writing to the BLM, Chief, Branch of Land Resources, at the above address.

Comments, including names and street addresses of respondents, will be available for public review at the BLM Montana State Office at the address above during regular business hours.

Individual respondents may request confidentiality. Before including your address, phone number, e-mail address, or other personal identifying information in your comment, be advised that your entire comment—including your personal identifying information—may be made publicly available at any time. While you can ask us in your comment to withhold from public review your personal identifying information, we cannot guarantee that we will be able to do so. If you wish to withhold your name or address from public review or from disclosure under the Freedom of Information Act, you must state this prominently at the beginning of your comments. Such requests will be honored to the extent allowed by law. All submissions from organizations or businesses, and from individuals identifying themselves as representatives or officials of organizations of businesses, will be made available for public inspection in their entirety.

Cynthia Staszak,
Chief, Branch of Land Resources.

[FR Doc. E9-30518 Filed 12-22-09; 8:45 am]

BILLING CODE 4310-DN-P